DEPARTMENT OF LABOR

Employment and Training Administration

[TA-W-82,920]

Cooper Interconnect, LLC, a Subsidiary of Eaton Corporation Including On-Site Leased Workers from Aerotek, Adecco, J&J Staffing and Superior Talent Resources, Salem, New Jersey; Amended Certification Regarding Eligibility To Apply for Worker Adjustment Assistance

In accordance with Section 223 of the Trade Act of 1974, as amended (“Act”), 19 U.S.C. 2273, the Department of Labor issued a Certification of Eligibility to Apply for Worker Adjustment Assistance on July 30, 2013, applicable to workers of Cooper Interconnect, LLC, a subsidiary of Eaton Corporation, Salem, New Jersey, including on-site leased workers from Aerotek, Adecco and J&J Staffing. The Department's notice of determination was published in the Federal Register on August 27, 2013 (78 FR 52978).

At the request of a State Workforce Official, the Department reviewed the certification for workers of the subject firm. The workers were engaged in production of electrical connectors.

The State reports that workers leased from Superior Talent Resources were employed on-site at the Salem, New Jersey location of Cooper Interconnect, LLC. The Department has determined that these workers were sufficiently under the control of the subject firm to be considered leased workers.

Based on these findings, the Department is amending this certification to include workers leased from Superior Talent Resources working on-site at the Salem, New Jersey location of Cooper Interconnect, LLC.

The amended notice applicable to TA-W-82,920 is hereby issued as follows:

“All workers of Cooper Interconnect, LLC, a subsidiary of Eaton Corporation, including on-site leased workers from Aerotek, Adecco, J&J Staffing and Superior Talent Resources, Salem, New Jersey, who became totally or partially separated from employment on or after July 18, 2012, through July 30, 2015, and all workers in the group threatened with total or partial separation from employment on July 30, 2013 through July 30, 2015 are eligible to apply for adjustment assistance under Chapter 2 of Title II of the Trade Act of 1974, as amended.”

Signed in Washington, DC this 30th day of January, 2014.
Michael W. Jaffe,
Certifying Officer, Office of Trade Adjustment Assistance.

[FR Doc. 2014-02998 Filed 2-11-14; 8:45 am]

BILLING CODE 4510-FN-P